FEDERAL COMMUNICATIONS COMMISSION

[CC Docket No. 92-237; DA 01-2393]

Renewal of North American Numbering Council Charter

AGENCY: Federal Communications Commission.

ACTION: Notice.

SUMMARY: On October 15, 2001, the Commission released a public notice announcing GSA approves renewal of North American Numbering Council charter through October 4, 2003. The intended effect of this action is to make the public aware of the renewal of the North American Numbering Council charter through October 4, 2003.

FOR FURTHER INFORMATION CONTACT: Deborah Blue, Special Assistant to the Designated Federal Officer (DFO) at (202) 418-2320 or dblue@fcc.gov. The address is: Network Services Division, Common Carrier Bureau, Federal Communications Commission, 445 Twelfth Street, SW, Room 6-A207, Washington, DC 20554. The fax number is: (202) 418-2345. The TTY number is: (202) 418-0484.

SUPPLEMENTARY INFORMATION: Released: October 15, 2001.

The GSA has renewed the charter of the North American Numbering Council (Council) through October 4, 2003. The Council will continue to advise the Federal Communications Commission (Commission) on rapidly evolving and competitively significant numbering issues facing the telecommunications industry.

In October 1995, the Commission established the North American Numbering Council, a Federal advisory committee created pursuant to the Federal Advisory Committee Act, 5 U.S.C., App. 2 (1988), to advise the Commission on issues related to North American Numbering Plan (NANP) administration in the United States, including local number portability administration issues. The original charter of the Council was effective on October 5, 1995, establishing an initial two-year term. The first amended charter was effective on October 5, 1997, renewing the term of the Council for an additional two years. The second amended charter was effective on October 5, 1999, renewing the term of the Council for an additional two years.

Since the last charter renewal, the Council has provided the Commission with critically important recommendations regarding numbering issues. During the term of the prior amended charter, the Council made recommendations on issues which included: (1) Thousands-block number pooling procedures and administrator; (2) cost for the COCUS replacement tool used to collect number utilization and forecast data; (3) Industry Numbering Committee (INC) NANP Expansion Assumptions; (4) NANPA electronic file transfer capability for receiving utilization and forecast data; (5) secondary definitions for numbering categories; (6) number administration auditor technical requirements; (7) thousands-block number pooling administrator technical requirements; (8) fees for reserved numbers; and (9) wireless number portability technical, operational and implementation requirements.

The Council is currently considering and formulating recommendations on other important numbering-related issues that will require work beyond the term of the present charter. The term of the Council's third amended charter begins October 5, 2001 and runs through October 4, 2003.

The value of this federal advisory committee to the telecommunications industry and to the American public cannot be overstated. Numbers are the means by which consumers gain access to, and reap the benefits of, the public switched telephone network. The Council's recommendations to the Commission will facilitate fair and efficient numbering administration in the United States, and will ensure that numbering resources are available to all telecommunications service providers on a fair and equitable basis, consistent with the requirements of the Telecommunications Act of 1996.

Federal Communications Commission.
Diane Griffin Harmon,
Acting Chief, Network Services Division, Common Carrier Bureau.

[FR Doc. 01-26372 Filed 10-17-01; 8:45 am]

BILLING CODE 6712-01-P